INTERNATIONAL TRADE COMMISSION

[USITC SE-17-030]

Sunshine Act Meeting

AGENCY HOLDING THE MEETING: United States International Trade Commission.

TIME AND DATE: July 27, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-563 and 731-TA-1331-1332 (Final) (Finished Carbon Steel Flanges from India and Italy). The Commission is currently scheduled to complete and file its determinations and views of the Commission by August 14, 2017.

5. Vote in Inv. No. 731-TA-669 (Fourth Review) (Cased Pencils from China). The Commission is currently scheduled to complete and file its determination and views of the Commission by August 17, 2017.

6. Outstanding action jackets: None.

In accordance with Commission policy, subject matter listed above, not disposed of at the scheduled meeting, may be carried over to the agenda of the following meeting.

By order of the Commission.
Issued: July 17, 2017.
William R. Bishop,
Supervisory Hearings and Information Officer.

[FR Doc. 2017-15340 Filed 7-18-17; 11:15 am]

BILLING CODE 7020-02-P